DEPARTMENT OF THE TREASURY

Departmental Offices; Renewal of the Treasury Borrowing Advisory Committee of the Securities Industry and Financial Markets Association

ACTION: Notice of renewal.

SUMMARY: In accordance with the Federal Advisory Committee Act, as amended (Pub. L. 92-463; 5 U.S.C. App. 2), with the concurrence of the General Services Administration, the Secretary of the Treasury is renewing the Treasury Borrowing Advisory Committee of the Securities Industry and Financial Markets Association (the “Committee”).

FOR FURTHER INFORMATION CONTACT: Fred Pietrangeli, Director, Office of Debt Management (202) 622-1876.

SUPPLEMENTARY INFORMATION: The purpose of the Committee is to provide informed advice as representatives of the financial community to the Secretary of the Treasury and Treasury staff, upon the Secretary of the Treasury's request, in carrying out Treasury responsibilities for Federal financing and public debt management. The Committee meets to consider and provide advice on special items pertaining to immediate Treasury funding requirements and longer term approaches to manage the national debt in a cost-effective manner. The Committee usually meets immediately before Treasury announces each quarter funding operation, although special meetings also may be held. Membership consists of up to 20 representative or special government employee members who are appointed by Treasury. The members are senior-level officials who are employed by primary dealers, institutional investors, and other major participants in the government securities and financial markets as well as recognized experts in the fields of economics and finance, financial market analysis, or financial institutions and markets.

The Treasury Department transmitted copies of the Committee's renewal charter to the Senate Committee on Finance, the House Committee on Ways and Means, the Senate Committee on Banking, Housing and Urban Affairs, and the House Committee on Financial Services in Congress on or about May 11, 2015.

Dated: May 28, 2015.
Fred Pietrangeli,
Director of the Office of Debt Management.

[FR Doc. 2015-13573 Filed 6-3-15; 8:45 am]

BILLING CODE P